COMMISSION ON CIVIL RIGHTS

Notice of Public Meeting of the Maryland Advisory Committee to the U.S. Commission on Civil Rights

AGENCY: U.S. Commission on Civil Rights.

ACTION: Notice of virtual business meeting.

SUMMARY: Notice is hereby given, pursuant to the provisions of the rules and regulations of the U.S. Commission on Civil Rights (Commission) and the Federal Advisory Committee Act, that the Maryland Advisory Committee (Committee) to the U.S. Commission on Civil Rights will a public meeting via Zoom. The purpose is for the committee to meet as a newly appointed committee.

DATES: Wednesday April 30, 2025, at 1 p.m. Eastern Time.

ADDRESSES:

Registration Link (Audio/Visual): https://tinyurl.com/mrjhth77.

Join by Phone (Audio Only): 1-833-435-1820 USA Toll Free; Webinar ID: 160 006 0777 #.

FOR FURTHER INFORMATION CONTACT: Brooke Peery, Designated Federal Officer, at bpeery@usccr.gov or 1-202-701-1376.

SUPPLEMENTARY INFORMATION: Committee meetings are available to the public through a registration link (above). Any interested members of the public may attend committee meetings. An open comment period will be provided to allow members of the public to make oral statements as time allows. Pursuant to the Federal Advisory Committee Act, public minutes of each meeting will include a list of persons who are present. If joining via phone, callers can expect to incur regular charges for calls they initiate over wireless lines, according to their wireless plan. The Commission will not refund any incurred charges. Callers will incur no charge for calls they initiate over land-line connections to the toll-free telephone number. Closed captioning is available by selecting “CC” in the meeting platform. To request additional accommodations, please email ebohor@usccr.gov at least 10 business days prior to the meeting.

Members of the public are entitled to submit written comments; the comments must be received in the regional office within 30 days following the scheduled meeting. Written comments may be emailed to Evelyn Bohor at ebohor@usccr.gov. Persons who desire additional information may contact the Regional Programs Coordination Unit at 1-202-656-8937.

Records generated from this meeting may be inspected and reproduced at the Regional Programs Coordination Unit Office, as they become available, both before and after the meeting. Records of the meetings will be available via the file sharing website, https://tinyurl.com/mnshz8n9. Persons interested in the work of this Committee are directed to the Commission's website, https://www.usccr.gov, or may contact the Regional Programs Coordination Unit at ebohor@usccr.gov.

Agenda

I. Welcome & Roll Call

II. Chair's Comments

III. Introductions

IV. Committee Discussion

V. Next Steps

VI. Public Comment

VII. Other Business

VIII. Adjourn

Dated: April 3, 2025.
David Mussatt,
Supervisory Chief, Regional Programs Unit.

[FR Doc. 2025-06042 Filed 4-8-25; 8:45 am]

BILLING CODE P